DEPARTMENT OF TRANSPORTATION

Federal Aviation Administration

Aviation Rulemaking Advisory Committee; Transport Airplane and Engine Issues—New Task

AGENCY: Federal Aviation Administration (FAA), DOT.

ACTION: Notice of new task assignment for the Aviation Rulemaking Advisory Committee (ARAC).

SUMMARY: The FAA assigned the Aviation Rulemaking Advisory Committee a new task to develop guidance that will support industry compliance with the Aging Airplane Safety Rule requirements that relate to supplemental structural inspections. This new tasking will also address certain aspects of recommendations made during a previous ARAC tasking related to widespread fatigue damage. This notice is to inform the public of this ARAC activity.

FOR FURTHER INFORMATION CONTACT: Mike Kaszycki, Federal Aviation Administration, Transport Standards Staff, 1601 Lind Avenue, SW., Renton, Washington 98055-4056, mike.kaszycki@faa.gov.

SUPPLEMENTARY INFORMATION:

Background

The FAA established the Aviation Rulemaking Advisory Committee to provide advice and recommendations to the FAA Administrator on the FAA's rulemaking activities with respect to aviation-related issues. This includes obtaining advice and recommendations on the FAA's commitments to harmonize Title 14 of the Code of Federal Regulations (14 CFR) with its partners in Europe and Canada.

Airplane Applicability of Tasking

This new tasking shall apply to transport category airplanes with a type-certificated passenger seating capacity of 30 or greater, or a maximum payload capacity of 7,500 pounds or greater, operated under part 121 or under part 129 (U.S. registered airplanes).

Statement of Tasking

There are four major tasks to be completed under this tasking:

Task 1.—Repairs to Baseline Primary Structure and Repairs to Alterations and Modifications

Draft an Advisory Circular (AC) that contains guidance to support the following two paths of compliance with §§ 121.370a and 129.16 of the Aging Airplane Safety Interim Final Rule (AASIFR):

1. Damage-tolerance-based inspection program developed by part 121 and 129 certificate holders: Develop guidelines and procedures that will enable part 121 and 129 certificate holders to develop a damage-tolerance-based inspection program that addresses repairs made to aircraft structure that is susceptible to fatigue cracking that could contribute to a catastrophic failure.

2. Model specific damage-tolerance-based inspection program: Develop Guidance that can be used by Type Certificate (TC) holders, Supplemental Type Certificate (STC) holders, and Structural Task Groups to support the development of a model specific damage-tolerance-based inspection program. The model specific damage-tolerance-based inspection program will address repairs made to aircraft structure that is susceptible to fatigue cracking that could contribute to a catastrophic failure. The developed model specific inspection program will support part 121 and 129 certificate holders' compliance with the AASIFR.

A written report will also be submitted that includes an action plan for the implementation of the recommendations of task 1 that will be addressed in task 4 below. The report is to be submitted to the Aviation Rulemaking Advisory Committee (ARAC), Transport Airplane and Engine Issues Group, for approval. The ARAC, Transport Airplane and Engine Issues Group, will determine as appropriate the means by which the action plan will be implemented. The proposed actions and implementation process approved by the ARAC, Transport Airplane and Engine Issues Group, will be subject to FAA concurrence.

In the process of drafting the AC, the ARAC should assess the effectiveness of AC 91-56B to provide guidance to TC and STC holders for developing damage-tolerance-based inspections and procedures for repairs made to aircraft structure that is susceptible to fatigue cracking that could contribute to a catastrophic failure. The ARAC should do the following:

• Assess the effectiveness of AC 91-56B to support Industry compliance with the AASIFR with respect to repairs.

• Document any improvements to the AC that would provide better direction with respect to the guidance for TC and STC holders in their development of damage-tolerance-based inspections and procedures for repairs.

The ARAC is requested to validate that the guidance material in the new AC will result in programs that provide a high degree of autonomy for part 121 and 129 certificate holders while supporting compliance with the AASIFR. In order to determine a rational approach for addressing repairs to aircraft structure that is susceptible to fatigue cracking that could contribute to a catastrophic failure, and are not currently covered by a mandated program, the AC should provide guidance to the part 121 and 129 certificate holders and to the type certificate holder to address the seven issues listed below.

1. The significance of the airplane certification amendment level in providing direction for the development of damage tolerance inspections and methods for repairs.

2. The degree to which Supplemental Structural Inspection Documents/Programs (SSID/P) or equivalent documents/programs provide direction to repair the structure using damage-tolerance-rated repairs. The assessment should apply to SSID/Ps or equivalent documents/programs developed for 14 CFR part 25 pre-amendment 25-45 transport airplane models having a maximum gross takeoff weight of 75,000 lbs or greater. The following should be identified:

• Areas of aircraft structure that is susceptible to fatigue cracking that could contribute to a catastrophic failure, which are not covered by SSID/Ps or equivalent documents/programs

• Significant assumptions applied in developing SSID/Ps or equivalent documents/programs

• Any significant issues in the implementation of the requirements of SSID/Ps or equivalent documents/programs

• Data from SSID/Ps or equivalent documents/programs that would be useful in supporting this new tasking

3. The degree to which an applicable airplane model's Airworthiness Limitations Section (ALS) provides direction to repair the structure using damage-tolerance-rated repairs. This assessment should apply to damage-tolerance-based inspection programs/data developed for 14 CFR part 25 amendment 25-45 or later transport airplane models having a maximum gross takeoff weight of 75,000 lbs or greater. The following should be identified:

• Areas of aircraft structure that is susceptible to fatigue cracking that could contribute to a catastrophic failure, which are not covered by a damage-tolerance-based inspection program/data

• Any significant issues in the implementation of the requirements of the damage-tolerance-based inspection programs/data

• Data from the damage-tolerance-based inspection programs that would be useful in supporting this new tasking

4. The degree to which existing Repair Assessment Guideline documents developed for §§ 121.370 and 129.32 provide damage-tolerance-based inspections for repairs made to aircraft structure that is susceptible to fatigue cracking that could contribute to a catastrophic failure. The assessment should identify the following:

• Areas of the aircraft structure that is susceptible to fatigue cracking that could contribute to a catastrophic failure, which are not covered by these documents

• Data from these documents that would be useful in supporting this new tasking

5. Identify the issues/difficulties industry has encountered with establishing damage-tolerance-based inspections and procedures for repairs as required by various FAA approaches in issuing SSIP airworthiness directives (e.g., 727/737 AD 98-11-03 R1, AD 98-11-04 R1 verses other SSIP AD approaches like the 747). The assessment should identify the following:

• Comparison of approaches with pros and cons for each approach

• Data from these documents that would be useful in supporting this new tasking

6. Assess the extent to which Structural Repair Manuals (SRM) provide damage-tolerance-based inspections for repairs made to aircraft structure that is susceptible to fatigue cracking that could contribute to a catastrophic failure.

7. Assess the need to include damage-tolerance-based inspections and procedures in TC and STC Holder issued Service Bulletins (SB) that provide repair instructions for aircraft structure that is susceptible to fatigue cracking that could contribute to a catastrophic failure.

Task 2.—Alterations and Modifications to Baseline Primary Structure, Including STCs and Amended Type Certificates (ATCs)

Prepare a written report assessing how an operator would include damage-tolerance-based inspections and procedures for alterations and modifications made to aircraft structure that is susceptible to fatigue cracking that could contribute to a catastrophic failure. This assessment would include, but is not limited to, alterations and modifications performed under an STC, ATC, FAA field approval (e.g., FAA form 337) and/or FAA approved TC holder design data. The report should include a recommendation on the best means to develop damage-tolerance-based inspections and procedures for these alterations and modifications and the applicability of AC 91-56B. The ARAC should assess the effectiveness of AC 91-56B to provide guidance to STC holders for developing damage-tolerance-based inspections and procedures for alterations and modifications. The ARAC should do the following:

• Assess the effectiveness of AC 91-56B to support Industry compliance with the AASIFR with respect to alterations and modifications.

• Document any improvements to the AC that would provide better direction with respect to the guidance for STC holders in their development of damage-tolerance-based inspections and procedures for alterations and modifications.

The written report will include a proposed action plan to address and/or accomplish these recommendations, including actions that should be addressed in task 4 below. The report should also provide a recommendation on the means of compliance provided by the AC developed in Task 1 in regards to repairs installed on STC or ATC approved alterations and modifications. The report is to be submitted to the ARAC, Transport Airplane and Engine Issues Group, for approval. The ARAC, Transport Airplane and Engine Issues group, will determine as appropriate the means by which the action plan will be implemented. The proposed actions and implementation process approved by the ARAC, Transport Airplane and Engine Issues Group, will be subject to FAA concurrence (FAA concurrence is necessary to ensure actions will support industry compliance with the AASIFR).

Task 3.—Widespread Fatigue Damage (WFD) of Repairs, Alterations, and Modifications

Provide a written report providing recommendations on how best to enable part 121 and 129 certificate holders of airplanes with a maximum gross take-off weight of greater than 75,000 pounds to assess the WFD characteristics of structural repairs, alterations, and modifications as recommended in a previous ARAC tasking. The written report will include a proposed action plan to address and/or accomplish these recommendations including actions that should be addressed in task 4 below. The report is to be submitted to the ARAC, Transport Airplane and Engine Issues Group, for approval. The ARAC, Transport Airplane and Engine Issues Group, will determine as appropriate the means by which the action plan will be implemented. The proposed actions and implementation process approved by the ARAC, Transport Airplane and Engine Issues Group, will be subject to FAA concurrence.

Task 4.—Model Specific Programs

Oversee the Structural Task Group (STG) activities that will be coordinated for each applicable airplane model by the respective type certificate holders' and part 121 and 129 certificate holders. These STG activities will involve the development of model specific approaches for compliance with §§ 121.370a and 129.16 under the guidance material supplied in Task 1.

As part of this tasking, the AAWG will identify those airplane models that do not have an STG, and will assess the need to form one (based on industry benefit). For those airplane models that will need to form an STG, the AAWG will initiate the coordination required to form the STG with the respective type certificate holder and/or part 121 and 129 certificate holders.

In addition, the AAWG will support the implementation of the action plan to address recommendations made in tasks 2 and 3 as determined necessary by the ARAC, Transport Airplane and Engine Issues Group, and concurred with by the FAA.

Schedule

The tasking will be performed in two phases. In Phase 1, the ARAC will provide to the FAA the results of Tasks 1 through 3. Phase 1 should be accomplished by December 16, 2005.

In Phase 2, the Structures Task Groups, under the direction of the ARAC, should produce the model specific guidance material, Task 4, using the guidelines and procedures of the AC produced in Phase 1. The ARAC will be responsible for coordinating and overseeing the STG's application of the AC. Phase 2 documents should be completed by December 18, 2009.

ARAC Acceptance of Task

ARAC accepted the task and assigned the task to the Airworthiness Assurance Working Group, Transport Airplane and Engine Issues. The Structural Task Groups (STG) composed of type certificate and part 121 and 129 certificate holders familiar with the specific model aircraft will support the working group. The working group will serve as staff to ARAC and assist in the analysis of the assigned task. ARAC must review and approve the working group's recommendations. If ARAC accepts the working group's recommendations, it will forward them to the FAA.

Working Group Activity

The Airworthiness Assurance Working Group must comply with the procedures adopted by ARAC. As part of the procedures, the working group must:

1. Recommend a work plan for completion of the task, including the rationale supporting such a plan for consideration at the next meeting of the ARAC on transport airplane and engine issues held following publication of this notice.

2. Give a detailed conceptual presentation of the proposed recommendations prior to proceeding with the work stated in item 3 below.

3. Draft the appropriate documents and required analyses and/or any other related materials or documents.

4. Provide a status report at each meeting of the ARAC held to consider transport airplane and engine issues.

Participation in the Working Group

The Airworthiness Assurance Working Group will be composed of technical experts having an interest in the assigned task. A working group member need not be a representative or a member of the full committee.

If you have expertise in the subject matter and wish to become a member of the working group you should write to the person listed under the caption FOR FURTHER INFORMATION CONTACT expressing that desire, describing your interest in the task, and stating the expertise you would bring to the working group. We must receive your request to participate no later than May 28, 2004. The assistant chair, the assistant executive director, and the working group chair will review your request and will advise you whether your request is approved.

If you are chosen for membership on the working group, you must represent your aviation community segment and actively participate in the working group (e.g., attend all meetings, provide written comments when requested to do so, etc.). You must also devote the resources necessary to support the working group in meeting any assigned deadlines. You must keep your management chain and those you may represent advised of working group activities and decisions to ensure that the proposed technical solutions don't conflict with your sponsoring organization's position when the subject being negotiated is presented to ARAC for approval.

Once the working group has begun deliberations, members will be added or substituted only with the approval of the assistant chair, the assistant executive director, and the working group chair.

The Secretary of Transportation determined that the formation and use of the ARAC is necessary and in the public interest in connection with the performance of duties imposed on the FAA by law.

Meetings of the ARAC will be open to the public. Meetings of the Airworthiness Assurance Working Group will not be open to the public, except to the extent that individuals with an interest and expertise are selected to participate. The FAA will make no public announcement of working group meetings.

Issued in Washington, DC, on May 4, 2004.
Anthony F. Fazio,
Executive Director, Aviation Rulemaking Advisory Committee.

[FR Doc. 04-10816 Filed 5-12-04; 8:45 am]

BILLING CODE 4910-13-P